DEPARTMENT OF COMMERCE

Bureau of Economic Analysis

Bureau of Economic Analysis Advisory Committee

AGENCY: Bureau of Economic Analysis, Economics and Statistics Administration.

ACTION: Notice of public meeting.

SUMMARY: Pursuant to the Federal Advisory Committee Act (Public Law 92-463 as amended by Public Law 94-409, Public Law 96-523, Public Law 97-375 and Public Law 105-153), we are giving notice of a meeting of the Bureau of Economic Analysis Advisory Committee. The meeting's agenda is as follows: 1. Director's report/update; 2. Communication of BEA data methodologies and concepts; 3. NAICS, NAPCS and time series continuity; 4. International data needs; 5. Medical care spending.

DATES: Friday, November 4, 2005, the meeting will begin at 9 a.m. and adjourn at approximately 4 p.m.

ADDRESSES: The meeting will take place at the Bureau of Economic Analysis, 1441 L Street, NW., Washington, DC 20230.

FOR FURTHER INFORMATION CONTACT: James J. Murphy, Public Affairs Specialist, Bureau of Economic Analysis, U.S. Department of Commerce, Washington, DC 20230; telephone number: (202) 606-2787.

Public Participation: This meeting is open to the public. Because of security procedures, anyone planning to attend the meeting must contact James Murphy of BEA at (202) 606-2787 in advance. The meeting is physically accessible to people with disabilities. Requests for foreign language interpretation or other auxiliary aids should be directed to James Murphy at (202) 606-2787.

SUPPLEMENTARY INFORMATION: The Committee was established September 2, 1999, to advise the Bureau of Economic Analysis (BEA) on matters related to the development and improvement of BEA's regional economic accounts and proposed revisions to the International System of National Accounts. This will be the Committee's ninth meeting.

Dated: September 7, 2005.
J. Steven Landefeld,
Director, Bureau of Economic Analysis.

[FR Doc. 05-18248 Filed 9-13-05; 8:45 am]

BILLING CODE 3510-06-P